PEACE CORPS

Information Collection Requests Under OMB Review

AGENCY: Peace Corps.

ACTION: Notice of public use form review request to the Office of Management and Budget.

SUMMARY: The Director for Coverdell World Wise Schools invites comments on information collection requests as required ursuant to the Paperwork Reduction Act (44 U.S.C. Chapter 35). This notice announces that the Peace Corps has submitted to the Office of Management and Budget a request to approve the use of the PC-DP-969.3 (04/2007), World Wise Schools Conference Online Registration Form. A copy of the information collection may be obtained from Sally Caldwell, Director of World Wise Schools, Peace Corps, Office of Domestic Programs, 1111 20th Street, NW., Washington, DC 20256. Ms. Cladwell may be contacted by telephone at 202-692-1425.

The Peace Corps invites comments on whether the proposed collection of information is necessary for proper performance of the functions of the Peace Corps and the Paul D. Coverdell World Wise Schools' Annual Conference, including whether the information will have practical use; the accuracy of the agency's estimate of the burden of the proposed collection of information, including the validity of the methodology and assumptions used; ways to enhance the quality, utility, and clarify of the information to be collected; and ways to minimize the burden of the collection of information to on those who are to respond, including through the use of automated collection techniques, when appropriate, and other forms of technology. Comments on the form should also be addressed to the attention of Ms. Sally Caldwell, and should be received on or before July 5, 2007. [after date of publication in Federal Register].

Information Collection Abstract

Title: World Wise Schools Conference—Online Registration Form, PC-DP-969.3 Form.

Need for and Use of This Information: The Peace Corps and Paul D. Coverdell World Wise Schools need this information to officially register attendees to the annual World Wise Schools Conference. The information is used as record of attendees.

Respondents: Educators, and employees of governmental and nongovernmental organizations interested in promoting global education in the classroom.

Respondent's Obligation to Reply: Voluntary.

Burden on the Public:

a. Annual reporting burden: 50 hours.

b. Annual recordkeeping burden: 50 hours.

c. Estimated averaged burden per response: 10 minutes.

d. Frequency of response: Annually.

e. Estimated number of likely respondents: 300.

f. Estimated cost to respondents: $0.00/$0.00.

Dated: May 23, 2007.
Wilbert Bryant,
Associate Director for Management

[FR Doc. 07-2749 Filed 6-1-07; 8:45 am]

BILLING CODE 6051-01-M